DEPARTMENT OF THE INTERIOR

National Park Service

[NPS-WASO-NAGPRA-NPS0030911; PPWOCRADN0-PCU00RP14.R50000]

Notice of Intent To Repatriate Cultural Items: Portland Art Museum, Portland, OR

AGENCY: National Park Service, Interior.

ACTION: Notice.

SUMMARY: The Portland Art Museum, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the Portland Art Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Portland Art Museum at the address in this notice by November 16, 2020.

ADDRESSES: Kathleen Ash-Milby, Curator of Native American Art, Portland Art Museum, 1219 SW Park Avenue, Portland, OR 97205, telephone (503) 276-4294, email kathleen.ash-milby@pam.org and Donald Urquhart, Director of Collections and Special Exhibitions, Portland Art Museum, 1219 SW Park Avenue, Portland, OR 97205, telephone (503) 276-4354, email donald.urquhart@pam.org.

SUPPLEMENTARY INFORMATION: Notice is here given in accordance with the Native American Graves Protection and Repatriation Act (NAGPRA), 25 U.S.C. 3005, of the intent to repatriate cultural items under the control of the Portland Art Museum, Portland, OR, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1921 and 1944, Axel Rasmussen, Superintendent of Schools first in Wrangell, AK, and later in Skagway, AK, collected Native American art and cultural items primarily from the Tlingit communities he served and from dealers in the region. After his death in 1945, his collection was transferred to art dealer Earl Stendahl in California. This collection was purchased by the Portland Art Museum in 1948.

In 2002, the nine cultural items listed in this notice were claimed by the Central Council of the Tlingit & Haida Indian Tribes on behalf of the Naanya.aayi clan and the Wrangell Cooperative Association. The cultural items belonged to the Naanya.aayi clan and were kept in their clan house (known as the “Shakes House”) under the custody of the hereditary clan leader, Chief Shakes, over multiple generations. The last Chief Shakes, Chief Shakes VII (aka Charlie Jones, died 1944), was installed in 1940. The cultural items have ongoing historical, traditional, and cultural importance that is central to the Tlingit clan structure. They are necessary for the renewal and continued practice of Tlingit religious ceremonies, rituals, and traditions of their clans and clan leaders. Ownership of the cultural items is shown by clan crests displayed on eight of the cultural items: The mudshark crest on catalog numbers 48.3.419; 48.3.568; 48.3.569; 48.3.715, and the killer whale crest on catalog numbers 48.3.553; 48.422 a, b; 48.3.528; 48.3.544. As they are collectively owned by the Naanya.aayi clan, these cultural items cannot be alienated by any one individual.

The nine cultural items are described as follows:

Items 1-3: X'átgu S'aaxw/Mudshark Hat (catalog number 48.3.419); X'átgu Koodás'/Mudshark shirt (catalog number 48.3.715); Ditlein X'oow/Killer whale Stranded on a Rock, Robe (catalog number 48.3.553). According to Portland Art Museum records, in 1930, Rasmussen obtained the hat and shirt from a family member of Chief Shakes VI who died in 1915, and in 1934, he obtained the robe from another family member in Wrangell. According to oral traditional information presented by the Central Council of the Tlingit & Haida Indian Tribes, these items were removed by Wrangell police after the death of Mrs. Kunk.

Item 4: Keet S'aaxw/Killer whale Hat (catalog number 48.3.422 A, B). According to museum records, on April 23, 1934, Rasmussen obtained the hat from a family member of Chief Shakes VI.

Item 5: Keet kuwool/Killer whale With a Hole (catalog number 48.3.528). According to museum records, this wooden fin was first obtained by Andrew Wanamaker in 1933, and subsequently sold to Rasmussen.

Item 6: Keet Naaxein/Killer whale Flotilla Chilkat Robe (catalog number 48.3.544). Museum records indicate that in 1936, Rasmussen obtained the robe from Esther Johnson Orcutt. Photographic evidence of clan ownership is provided by a 1913 photograph in the collections of the Anchorage Museum of History and Art entitled “Coonk Shakes, Nephew of a Great Chief of Wrangell,” in which the robe appears next to other clan property, and a 1900 photograph showing the clan house panel from which the robe design was adopted.

Item 7: X'átgu Koodás'/Mudshark Shirt (catalog number 48.3.568). Museum records indicate that in 1934, Rasmussen obtained the shirt from William James, of Wrangell. According to the Central Council of the Tlingit & Haida Indian Tribes, Mr. James was the son of L'axdujeek, a “tribal” sister of Charlie Jones, aka Chief Shakes VII, and was not from the Naanya.aayi clan.

Item 8: X'átgu Koodás'/Mudshark Shirt with dentalia shell (catalog number 48.3.569). Museum records indicate that in 1931, Rasmussen obtained the shirt from Charlie Jones, of Wrangell, AK. The 1931 sale occurred before Jones was installed as Chief Shakes (in 1940).

Item 9: Geet Shakee.at/Storm Headdress (catalog number 48.3.435). According to the Central Council of the Tlingit & Haida Indian Tribes, this headdress was captured from the Tsimshian during a battle near the mouth of the Stikine River. Imbued with the words of “spirit songs,” it was worn by the ixt' (shaman) in ceremonial dance. Photographs from ca.1890 and 1913 show the headdress in the clan house together with other clan property. Museum records indicate that in 1931, Charlie Jones sold the headdress to Rasmussen.

Determinations Made by the Portland Art Museum:

Officials of the Portland Art Museum have determined that:

• Pursuant to 25 U.S.C. 3001(3)(D), the nine cultural items described above have ongoing historical, traditional, or cultural importance central to the Native American group or culture itself, rather than property owned by an individual.

• Pursuant to 25 U.S.C. 3001(2), there is a relationship of shared group identity that can be reasonably traced between the objects of cultural patrimony and the Naanya.aayi clan, a constituent of the Central Council of the Tlingit & Haida Indian Tribes.

Additional Requestors and Disposition

Lineal descendants or representatives of any Indian Tribe or Native Hawaiian organization not identified in this notice that wish to claim these cultural items should submit a written request with information in support of the claim to Kathleen Ash-Milby, Curator of Native American Art, Portland Art Museum, 1219 SW Park Avenue, Portland, OR 97205, telephone (503) 276-4294, email kathleen.ash-milby@pam.org and Donald Urquhart, Director of Collections and Special Exhibitions, Portland Art Museum, 1219 SW Park Avenue, Portland, OR 97205, telephone (503) 276-4354, email donald.urquhart@pam.org, by November 16, 2020. After that date, if no additional claimants have come forward, transfer of control of the objects of cultural patrimony to the Central Council of the Tlingit & Haida Indian Tribes may proceed.

The Portland Art Museum is responsible for notifying the Central Council of the Tlingit & Haida Indian Tribes and the Wrangell Cooperative Association that this notice has been published.

Dated: September 16, 2020.
Melanie O'Brien,
Manager, National NAGPRA Program.

[FR Doc. 2020-22921 Filed 10-15-20; 8:45 am]

BILLING CODE 4312-52-P